FEDERAL MARITIME COMMISSION

Ocean Transportation Intermediary License Applicants

Notice is hereby given that the following applicants have filed with the Federal Maritime Commission an application for license as Non-Vessel Operating Common Carrier and Ocean Freight Forwarder—Ocean Transportation Intermediary pursuant to section 19 of the Shipping Act of 1984 as amended (46 U.S.C. app. 1718 and 46 CFR 515).

Persons knowing of any reason why the following applicants should not receive a license are requested to contact the Office of Transportation Intermediaries, Federal Maritime Commission, Washington, DC 20573.

Non-Vessel Operating Common Carrier Ocean Transportation Intermediary Applicants

Cargomax Express, Inc., 1171 Landmeier Road, Suite 132, Elk Grove Village, IL 60007. Officers: Jong Dae Lee, President (Qualifying Individual), Jennifer Lee, C.F.O.

CK Logistics, Inc., 500 Sandau Road, Suite 600, San Antonio, TX 78216. Officers: Christopher S. Kuehler, President (Qualifying Individual).

Pella Moving & Storage dba BBS, 291 Marlin Street, Port Newark, NJ 07114. Officer: Nicholas Iacopella, President (Qualifying Individual).

Overseas Shipping and Logistics, Inc., 122 Scribner Avenue, Staten Island, NY 10301. Officer: Gulamhyder Shroff, President (Qualifying Individual).

Non-Vessel Operating Common Carrier and Ocean Freight Forwarder Transportation Intermediary Applicants

Diarama Export, Inc., 2754 NW North River Dr., Suite 6, Miami, FL 33142. Officer: Diinorah Aguiar, President (Qualifying Individual).

Uniworld Cargo Shipping Lines LLC, 4000 West Side Avenue, North Bergen, NJ 07047. Officers: Helen Shany, Member (Qualifying Individual), Ayal Shany, Member.

Shipping Services of America, LLC, 373 Broadway, Suite B-17, New York, NY 10013. Officers: Armando D. Dabalus, President (Qualifying Individual), Elsa D. Patriarca, Vice President.

JVL America, Inc., 1515 W. 178 Street, Gardena, CA 90248. Officers: Carol Wang, Operations Director (Qualifying Individual), Takashi Miyazawa, President.

DLM Ventures, Inc., 1850 NW 84th Avenue, Suite 114, Miami, FL 33126. Officers: Debbie M. Lawrence-Martinez, President (Qualifying Individual), Jose Felix Ramirez, Vice President.

E.T.F. Services, Inc. dba Global Link Enterprises, 2500 83rd Street, Door #9B2, North Bergen, NJ 07047. Officers: Alexander Duran, President (Qualifying Individual), Edward Duran, Vice President.

Ocean Freight Forwarder—Ocean Transportation Intermediary Applicants

Maersk Logistics, Inc., Giralda Farms, Madison, NJ 07940-0880. Officers: Anthony A. Chiarello, President (Qualifying Individual), Thomas Thune Andersen, Chairman.

Panmet Group Incorporated, 1399 Hodlmair Lane, Elk Grove Village, IL 60007. Officers: Ross Flynn, President (Qualifying Individual), Katharine Flynn, Treasurer.

API Network, Inc., 3318 SW 2nd Avenue, Fort Lauderdale, FL 33315. Officer: John Thomason, President (Qualifying Individual).

Eagle Pacific, Corp., 182-16 149th Road, Rm #288, Jamaica, NY 11413. Officer: Luyin (Grace) Zhang, President (Qualifying Individual).

Daga Cargo, Inc., 8061 N.W. 67th Street, Miami, FL 33166. Officers: Alfonso Vallejo, Secretary (Qualifying Individual), Armando Ujueta, President.

Fletamentos Y. Cargas Miami, Inc., 1320 Drexel Avenue, #300, Miami Beach, FL 33139. Officer: Carlos J. Pelaez, President (Qualifying Individual).

Charter Brokerage Corporation, One Atlantic Street, Stamford, Conn. 06901. Officers: William J. Phelan, President (Qualifying Individual), Michael F. Mitri, Vice President.

China Linq, LLC, 20675 Manhattan Place, Torrance, CA 90501. Officers: Jacob Bech-Hansen, Managing Director (Qualifying Individual), Greg Ruggles, Managing Member.

Dated: May 24, 2002.
Theodore A. Zook,
Assistant Secretary.

[FR Doc. 02-13536 Filed 5-29-02; 8:45 am]

BILLING CODE 6730-01-P